NATIONAL AERONAUTICS AND SPACE ADMINISTRATION

[Notice (11-108)]

NASA Advisory Council; Charter Renewal

AGENCY: National Aeronautics and Space Administration (NASA).

ACTION: Notice of renewal and amendment of the charter of the NASA Advisory Council.

SUMMARY: Pursuant to sections 14(b)(1) and 9(c) of the Federal Advisory Committee Act (Pub. L. 92-463), and after consultation with the Committee Management Secretariat, General Services Administration, the NASA Administrator has determined that renewal and amendment of the charter of the NASA Advisory Council is in the public interest in connection with the performance of duties imposed on NASA by law. The renewed charter is for a two-year period ending October 25, 2013. It is identical to the previous charter in all respects except it removes references that are no longer applicable, and updates the listing of committees to reflect the recent merger of the Exploration Committee and Space Operations Committee to become the Human Exploration and Operations Committee.

FOR FURTHER INFORMATION CONTACT: Ms. Marla King, NASA Advisory Council Administrative Officer, Advisory Committee Management Division, Office of International and Interagency Relations, (202) 358-1148, National Aeronautics and Space Administration Headquarters, Washington, DC 20546-0001.

Dated: October 26, 2011.
P. Diane Rausch,
Advisory Committee Management Officer, National Aeronautics and Space Administration.

[FR Doc. 2011-28275 Filed 10-31-11; 8:45 am]

BILLING CODE 7510-13-P